DEPARTMENT OF THE INTERIOR

Bureau of Land Management

[CACA-051552, LLCAD0700 L51010000 FX0000 LVRWB10B3980]

Notice of Availability of a Proposed Land Use Plan Amendment and Final Environmental Impact Statement for the Proposed McCoy Solar Energy Project, CA

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a proposed California Desert Conservation Area (CDCA) plan amendment and final environmental impact statement (EIS) for the McCoy Solar Energy Project (project)—a photovoltaic solar electricity generation project—and by this notice is announcing its availability.

DATES: BLM planning regulations state that any person who meets the conditions as described in the regulations may protest the BLM's proposed plan amendment/final EIS. A person who meets the conditions and files a protest must file the protest within 30 days of the date that the Environmental Protection Agency publishes its notice of availability in the Federal Register.

ADDRESSES: Copies of the proposed plan amendment/final EIS have been sent to affected Federal, State, local government agencies, and to other stakeholders. Copies of the proposed plan amendment/final EIS are available for public inspection at the Palm Springs/South Coast Field Office, 1201 Bird Center Drive, Palm Springs, CA 92262 and the California Desert District Office, 22835 Calle San Juan de Los Lagos, Moreno Valley, CA 92553-9046. Interested persons may also review the plan amendment/final EIS on the Internet at http://www.blm.gov/ca/st/en/fo/cdd.html. All protests must be in writing and mailed to one of the following addresses:

Regular mail: | Overnight mail:
BLM Director (210), Attention: Brenda Williams, P.O. Box 71383, Washington, DC 20024-1383 | Attention: BLM Director (210), Brenda Williams 20 M Street SE., Room 2134LM, Washington, DC 20003

FOR FURTHER INFORMATION CONTACT: Jeffery Childers; telephone, 951-697-5308; mail, BLM California Desert District Office, 22835 Calle San Juan de Los Lagos, Moreno Valley, CA 92553-9046; or email jchilders@blm.gov. Also contact Mr. Childers to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, McCoy Solar, LLC, has requested a right-of-way (ROW) authorization to construct, operate, maintain, and decommission an up to 750-megawatt photovoltaic solar energy generation facility and necessary ancillary facilities including a generation tie (gen-tie) line, access road and switch yard. The precise generation capacity or megawatts are dependent on the technology selected and efficiencies available at the time of ROW authorization. The proposed project includes an approximately 4,437-acre solar plant site, and linear facilities outside the solar plant site including a 14.5-mile gen-tie within a ROW width of 100 feet (Eastern Route), access roads, a distribution line, and a 2-acre switch yard (total linear disturbance is 146 acres, for a total project area of 4,583 acres) to be located adjacent to and connect into Southern California Edison's Colorado River Substation. The proposed project would require approximately 477 acres of private lands. The project site is located approximately 13 miles northwest of Blythe, California and approximately 32 miles east of Desert Center.

The BLM's purpose and need for the project is to respond to McCoy Solar, LLC's application for a ROW grant to construct, operate, maintain, and decommission a solar energy facility on public lands. The BLM will decide whether to grant, grant with modification, or deny a ROW to McCoy Solar, LLC.

The project would be located in the Riverside East Solar Energy Zone as designated in the Solar Programmatic EIS Record of Decision (ROD) signed October 12, 2012. However, the Solar Programmatic EIS ROD specifically excluded certain “pending applications” from the land use planning decision amending the CDCA Plan, and the ROW application for the project is subject to that exclusion (Programmatic EIS ROD Section B.1.2). This project would still require a CDCA Plan amendment since the CDCA Plan (1980, as amended), while recognizing the potential compatibility of solar energy generation facilities with other uses on public lands, requires that all sites proposed for power generation or transmission not already identified be considered through the plan amendment process.

In addition to the proposed action identified above and a no action alternative, the BLM analyzed a reduced acreage alternative, where the solar plant site would occupy approximately 2,259 acres, and a reconfigured gen-tie line and access road alternative including either an approximately 12.5-mile gen-tie and access road route (Central Route) or a 15.5-mile route to the west (Western Route). The Agency Preferred Alternative consists of an approximately 4,437-acre solar plant site and the Central Route Gen-tie alternative that would disturb 136.2 acres, including a 2-acre switch yard interconnection to the Colorado River Substation, for a total project area of 4,573.2 acres.

The proposed plan amendment/final EIS evaluates the potential impacts of the proposed project on air quality, biological resources, cultural resources, water resources, geological resources and hazards, land use, noise, paleontological resources, public health, socioeconomics, soils, traffic and transportation, visual resources, wilderness characteristics, and other resources.

A Notice of Intent to Prepare an EIS/Environmental Impact Report for the project was published in the Federal Register on August 29, 2011 (76 FR 167). The BLM and Riverside County held joint public scoping meetings in Palm Desert and Blythe on September 20, 2011 and October 19, 2011. The formal scoping period ended on November 28, 2011.

A Notice of Availability of the draft plan amendment/EIS for the project was published on May 25, 2012. The BLM held two public meetings: In Palm Desert on June 27, 2012, and in Blythe on June 28, 2012. The purpose of these meetings was to provide additional information to the public regarding the analysis.

In March 2012, the BLM and Riverside County bifurcated the joint process, and the BLM proceeded with an EIS, satisfying the Federal requirements under NEPA. The County will issue any required documentation under the California Environmental Quality Act (CEQA) separately before issuing its authorizations.

Comments on the draft plan amendment/EIS received from agencies, members of the public, and internal BLM review were considered and incorporated as appropriate into the proposed plan amendment/final EIS. Public comments resulted in the addition of clarifying text, modification of the western boundary to avoid additional resource conflicts, and changes to the drainage design to accommodate the revised boundary. These changes were to the physical project footprint and did not significantly change proposed land use plan decisions.

Instructions for filing a protest with the Director of the BLM regarding the project may be found in the “Dear Reader” letter of the proposed plan amendment/final EIS and at 43 CFR 1610.5-2. All protests must be in writing and mailed to the appropriate address as set forth in the ADDRESSES section above. Emailed and faxed protests will not be accepted as valid protests unless the protesting party also provides the original letter by either regular or overnight mail postmarked by the close of the protest period. Under these conditions, the BLM will consider the emailed or faxed protest as an advance copy and it will receive full consideration. If you wish to provide the BLM with such advance notification, please direct emails to Brenda_Hudgens-Williams@blm.gov and faxed protests to the attention of the BLM protest coordinator at 202-245-0028.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2.

Karen Montgomery,
Acting Deputy State Director, California.

[FR Doc. 2012-30855 Filed 12-21-12; 8:45 am]

BILLING CODE 4310-40-P